ENVIRONMENTAL PROTECTION AGENCY

[EPA-HQ-OLEM-2023-0416; FRL-12003-01-OMS]

Agency Information Collection Activities; Submission to the Office of Management and Budget for Review and Approval; Comment Request; Materials Management (New)

AGENCY: Environmental Protection Agency (EPA).

ACTION: Notice.

SUMMARY: The Environmental Protection Agency (EPA) has submitted an information collection request (ICR), Materials Management (EPA ICR Number 2789.01, OMB Control Number 2050-NEW) to the Office of Management and Budget (OMB) for review and approval in accordance with the Paperwork Reduction Act. This is a request for approval of a new collection. Public comments were previously requested on the overall collection via the Federal Register on September 29, 2023, during a 60-day comment period. This notice allows for an additional 30 days for public comments on this specific information request.

DATES: Comments may be submitted on or before June 28, 2024.

ADDRESSES: Submit written comments and recommendations to OMB for the proposed information collection within 30 days of publication of this notice to www.reginfo.gov/public/do/PRAMain. Find this particular information collection by selecting “Currently under 30-day Review—Open for Public Comments” or by using the search function.

FOR FURTHER INFORMATION CONTACT: Hannah Blaufuss, Resource Conservation and Sustainability Division, Office of Resource Conservation and Recovery, 5306P, Environmental Protection Agency, 1200 Pennsylvania Ave. NW, Washington, DC 20460; telephone number: 202-564-5614; email address: Blaufuss.hannah@epa.gov.

SUPPLEMENTARY INFORMATION: This is a request for approval of a new information collection under EPA's Materials Management Generic ICR. An agency may not conduct or sponsor and a person is not required to respond to a collection of information unless it displays a currently valid OMB control number.

Public comments were previously requested on the overall collection via the Federal Register on September 29, 2023 during a 60-day comment period (88 FR 67277). This notice allows for an additional 30 days for public comments. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Several statutes including the Save our Seas 2.0 Act (SOS 2.0) (Pub. L. 116-224), the Infrastructure Investment and Jobs Act (IIJA) (Pub. L. 117-58), and the Resource Conservation and Recovery Act (RCRA) (Pub. L. 94-580) direct EPA to implement grants and programs promoting efficient and equitable non-hazardous waste management in the United States. EPA's Office of Land and Emergency Management, Office of Resource Conservation and Recovery (ORCR) is charged with, among other responsibilities, assuring that associated programs, policies, and grant monies are properly targeted to meet those goals. This proposed information collection is designed to provide ORCR with the timely and consistent information on waste/materials generation, disposition, and recovery it needs to fulfill that mission. Specifically, it will allow EPA to develop and use new forms and methods to support additional grant reporting requirements and volume resulting from recent funding legislation. Furthermore, the collection will allow EPA to use interviews, focus groups, and surveys to inform the Agency's understanding of methods, amounts, and economics of solid waste collection, management, recovery, reduction, and reuse.

EPA is recommending that OMB provides clearance for the Agency to conduct this set of associated information collection activities as a hybrid generic ICR. As described in OMB Memo “Paperwork Reduction Act—Generic Clearances” from May 28, 2010:

A generic ICR is a request for OMB approval of a plan for conducting more than one information collection using very similar methods when (1) the need for and the overall practical utility of the data collection can be evaluated in advance, as part of the review of the proposed plan, but (2) the agency cannot determine the details of the specific individual collections until a later time.

To use a generic ICR, agencies follow the traditional ICR process to initially request OMB clearance for a general set of related information collection activities. Agencies then file subsequent requests (ICs) to gain clearance for specific actions on an as-needed basis. However, because clearance for many of the common elements (such as the agency's authority to collect information, the scope and practical utility of information to be collected, the mechanisms and methodologies that will be employed, and the overall estimates of respondent burden) are established in the initial request, the content of, and approval process for, individual ICs can be, to varying extents, abridged. Within the range of generic ICR types, hybrid generic ICRs require the highest level of public and OMB review—with each IC submission having its own public notice and 30 day comment period announced in the Federal Register. EPA believes that a hybrid generic ICR is the most appropriate model to be used in this case because it: (1) allows the Agency to react quickly to evolving national strategies and infrastructure improvement plans; (2) allows the Agency to apply insight gathered in initial ICs to inform the need, scope, and methodologies used in subsequent information collections; and, (3) maintains the public's and OMB's ability to apply robust scrutiny to all proposed collections. Given the demonstrated need for fundamental waste generation and management information, the evolving nature of these data, and the expectations for pace/progress placed on ORCR, pursuing individual conventional ICRs to gather the required information would be impractical.

Form numbers: To be included in individual IC requests.

Respondents/affected entities: The grant reports would be administered to grantees which include U.S. States and Territories, communities of U.S. states, federally recognized Native American Tribes, and intertribal consortia. Additional information collections used to assess waste generation and management systems across the country may expand that respondent universe to include, non-profit organizations, public-private partnerships, U.S. cities and municipalities, waste management and recycling facilities, and individuals.

Respondent's obligation to respond: Grant recipients will be required to submit progress and final reports according to the Infrastructure Investment and Jobs Act (IIJA) (Pub. L. 117-58). Other information collection activities will be voluntary.

Estimated number of respondents: 146,345 (total).

Frequency of response: Grant recipients are required to report on a quarterly basis. Other information collections will be determined on an activity-by-activity basis, but no more than annually.

Total estimated burden: 15,397 hours (per year). Burden is defined at 5 CFR 1320.03(b).

Total estimated cost: $1,001,153 (per year) which assumes a 100% response rate, annualized capital or operation & maintenance costs are not expected.

Courtney Kerwin,
Director, Regulatory Support Division.

[FR Doc. 2024-11765 Filed 5-28-24; 8:45 am]

BILLING CODE 6560-50-P